DEPARTMENT OF HEALTH AND HUMAN SERVICES

Administration for Children and Families

Submission for OMB Review; Comment Request

Proposed Projects:

Title: Federal Child Support Portal Registration.

OMB No.: 0970-0370.

Description: The federal Office of Child Support Enforcement (OCSE), Division of Federal Systems, maintains the Child Support Portal (Portal), through which authorized users may view, update, or upload information for child support purposes. To securely access the Portal as an authorized user, OCSE creates profiles within the Portal for employers, insurers, and multistate financial institutions (MSFIs) using information provided in the Employer Service Profile Form and the Debt Inquiry Insurer Profile Form (see OMB No: 0970-0196 for the MSFI Profile Form). State child support agencies manage and authenticate authorization for individual users via the state proxy server; therefore, a profile form is not required.

The federal Child Support Portal Registration information collection activities are authorized by 42 U.S.C. 653(m)(2), which requires the Secretary to establish and implement safeguards to restrict access to confidential information in the Federal Parent Locator Service to authorized persons, and to restrict use of such information to authorized purposes.

Respondents: Employers, Financial Institutions, Insurers, and Child Support Agencies.

Annual Burden Estimates:

Information collection instrument | Number of respondents | Number of responses per respondent | Average burden hours per response | Total burden hours
Employer Services Profile | 2,144 | 1 | 0.08 | 171.52
Debt Inquiry Insurer Profile | 22 | 1 | 0.08 | 1.76
Portal Registration Screens | 2,338 | 1 | 0.15 | 350.70

Estimated Total Annual Burden Hours (Rounded from 523.98): 524.

Additional Information: Copies of the proposed collection may be obtained by writing to the Administration for Children and Families, Office of Planning, Research, and Evaluation, 330 C Street SW, Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Emily B. Jabbour,
ACF/OPRE Certifying Officer.

[FR Doc. 2018-21226 Filed 9-28-18; 8:45 am]

BILLING CODE 4184-41-P